DEPARTMENT OF HEALTH AND HUMAN SERVICES

Centers for Medicare & Medicaid Services

[Document Identifier: CMS-381, CMS-1893 and 1856, CMS-10249, CMS-10264, CMS-10266, and CMS-855S]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Extension of a currently approved collection;

Title of Information Collection: Identification of Extension Units of Outpatient Physical Therapy (OPT)/Outpatient Speech Pathology (OSP) Providers;

Use: Medicare requires OPT/OSP providers to be surveyed to determine compliance with Federal regulations. All locations where OPT/OSP providers furnish services must meet these requirements. The CMS-381 is the form used to identify all the OPT/OSP locations.

Form Number: CMS-381 (OMB# 0938-0273);

Frequency: Yearly;

Affected Public: State, Local, or Tribal Governments;

Number of Respondents: 495;

Total Annual Responses: 495;

Total Annual Hours: 866.

2. Type of Information Collection Request: Extension of a currently approved collection;

Title of Information Collection: Outpatient Physical Therapy Speech Pathology Survey Report and Supporting Regulations in 42 CFR 485.701-485.729.

Use: The Medicare program requires OPT providers to meet certain health and safety requirements. The request for certification form is used by State agency surveyors to determine if minimum Medicare eligibility requirements are met. The survey report form records the results of the on-site survey.

Form Number: CMS-1856 and 1893 (OMB# 0938-0065);

Frequency: Yearly and occasionally;

Affected Public: State, Local, or Tribal Governments;

Number of Respondents: 495;

Total Annual Responses: 495;

Total Annual Hours: 866.

3. Type of Information Collection Request: New Collection;

Title of Information Collection: Administrative Requirements for Section 6071 of the Deficit Reduction Act of 2005 (DRA);

Use: CMS will use an Operational Protocol Instruction Guide and template for the development of Operational Protocols for the States selected to participate in the Money Follows the Person (MFP) Rebalancing Demonstration. The guide will provide instruction on the required elements of the State's Operational Protocol, which must be submitted and approved before a State may enroll individuals in the State's demonstration program or begin to claim service dollars. Section 6071(c)(9) of the DRA requires the States to provide information and assurances that total expenditures under the State Medicaid program for home and community-based long-term care services will not be less for any fiscal year during the MFP demonstration project than for the greater of such expenditures for fiscal year 2005 or any succeeding fiscal year before the first of the year of the MFP demonstration project. Accordingly, States are required to submit Maintenance of Effort (MOE) forms and MFP Budget forms on an annual basis. Additionally, in order to receive enhanced FMAP, States are required to submit the MFP Demonstration Financial Forms on a quarterly basis. Section 6071(g) of the DRA requires a national evaluation of the MFP demonstration project and a final report to the President and Congress. For the national evaluation, States will be required to submit semi-annual reports that describe their progress in implementing their MFP programs and rebalancing their long-term care systems. In addition, States will be required to submit on a quarterly basis an MFP Finders File, which will include eligibility records for all MFP participants, and an MFP Services File, which will include records for each service funded with MFP grant funds. (NOTE: This collection package has been revised since the 60-day Federal Register notice published on August 31, 2007. The 30-day collection package includes two additional instruments: (1) MFP Quality of Life (QOL) Survey; and, (2) MFP Semi-annual Progress Report. The MFP QOL Survey is a collection of qualitative data from MFP participants, and the MFP Semi-annual Progress Report is a mechanism for CMS Project Officers to monitor MFP grantees.)

Form Number: CMS-10249 (OMB#: 0938-NEW);

Frequency: Reporting—Yearly, Quarterly, Semi-annually and Once;

Affected Public: States, Local or Tribal Governments;

Number of Respondents: 31;

Total Annual Responses: 360;

Total Annual Hours: 9,360.

4. Type of Information Collection Request: New collection;

Title of Information Collection: Medicare Registration Summary and Medication History Personal Health Record Evaluation;

Use: In 2006, the American Health Information Community (AHIC) Consumer Empowerment Workgroup (CEWG) made a recommendation to CMS to pilot programs that measure and demonstrate the value of Personal Health Records (PHRs) for patients with chronic diseases and their clinicians. For this information collection, CMS has proposed to evaluate the uptake, use, and perceived value of a Registration Summary and Medication History PHR tool for Medicare Managed Care and/or Part D Drug Plan Beneficiaries. Seven commercial health plans volunteered to integrate the PHR pilot tool within their existing PHRs, and these plans are offering the tool to member beneficiaries at no cost. CMS will examine how the PHRs were used by the beneficiaries, caregivers and providers and if they were perceived to improve the quality of the beneficiary/provider communication; timeliness of preventive screenings; and ease of use or value of information to individuals with chronic conditions.

Form Number: CMS-10264 (OMB# 0938-New);

Frequency: Once;

Affected Public: Individuals or households, Private Sector;

Number of Respondents: 2,167;

Total Annual Responses: 2,167;

Total Annual Hours: 1083.5.

5. Type of Information Collection Request: New collection;

Title of Information Collection: Conditions of Participation: Requirements for Approval and Reapproval of Transplant Centers to Perform Organ Transplants and Supporting Regulations in 42 CFR 482.74, 482.94, 482.100, 482.102, 488.61;

Use: The Conditions of Participation and accompanying requirements specified in the regulations are used by our surveyors as a basis for determining whether a transplant center qualifies for approval or re-approval under Medicare. CMS and the healthcare industry believe that the availability to the facility of the type of records and general content of records is standard medical practice and is necessary in order to ensure the well-being and safety of patients and professional treatment accountability.

Form Number: CMS-10266 (OMB# 0938-New);

Frequency: Yearly;

Affected Public: Business or other for-profits and not-for-profit institutions;

Number of Respondents: 514;

Total Annual Responses: 3,270;

Total Annual Hours: 9,334.

6. Type of Information Collection Request: New collection;

Title of Information Collection: Medicare Enrollment Application—Durable Medical Equipment, Prosthetics, Orthotics and Supplies (DMEPOS) Suppliers and Supporting Regulations in 42 CFR 424.57 and 424.58;

Use: CMS is revising the CMS-855 Medicare Enrollment Applications Package (OMB No. 0938-0685) to remove the CMS-855S application from its collection. CMS has found that the regulations governing the standards required of suppliers of durable medical equipment, prosthetics, orthotics and supplies (DMEPOS) are revised and increased more frequently than the other provider types reimbursed by Medicare. Consequently, CMS must revise the CMS 855S application for DMEPOS suppliers more often than the CMS 855A, CMS 855B, CMS 855I and CMS 855R enrollment applications. The ability to revise the CMS 855S separately from the other CMS 855 enrollment applications will lessen the burden on both CMS and the public as only one subset of suppliers will be affected by CMS 855S revisions. CMS intends to maintain the continuity of the CMS 855 enrollment applications by using the same formats and lay-out of the current CMS 855 enrollment applications, regardless of the separation of the CMS 855S from the collective enrollment application package. The primary function of the CMS 855S DMEPOS supplier enrollment application is to gather information from a supplier that tells us who it is, whether it meets certain qualifications to be a health care supplier, where it renders its services or supplies, the identity of the owners of the enrolling entity, and information necessary to establish the correct claims payment.

Form Number: CMS-855S (OMB# 0938-New);

Frequency: Yearly;

Affected Public: Business or other for-profits and not-for-profit institutions;

Number of Respondents: 126,134;

Total Annual Responses: 126,134;

Total Annual Hours: 149,234.

To obtain copies of the supporting statement and any related forms for the proposed paperwork collections referenced above, access CMS Web site address at http://www.cms.hhs.gov/PaperworkReductionActof1995, or e-mail your request, including your address, phone number, OMB number, and CMS document identifier, to Paperwork@cms.hhs.gov, or call the Reports Clearance Office on (410) 786-1326.

To be assured consideration, comments and recommendations for the proposed information collections must be received by the OMB desk officer at the address below, no later than 5 p.m. on September 22, 2008.

OMB Human Resources and Housing Branch, Attention: OMB Desk Officer, New Executive Office Building, Room 10235, Washington, DC 20503, Fax Number: (202) 395-6974.

Dated: August 14, 2008.
Michelle Shortt,
Director, Regulations Development Group, Office of Strategic Operations and Regulatory Affairs.

[FR Doc. E8-19393 Filed 8-21-08; 8:45 am]

BILLING CODE 4120-01-P